DEPARTMENT OF ENERGY

Federal Energy Regulatory Commission

Combined Notice of Filings #1

Take notice that the Commission received the following electric corporate filings:

Docket Numbers: EC25-62-000.

Applicants: Anahau Energy, LLC.

Description: Application for Authorization Under Section 203 of the Federal Power Act of Anahau Energy, LLC.

Filed Date: 3/6/25.

Accession Number: 20250306-5149.

Comment Date: 5 p.m. ET 3/27/25.

Take notice that the Commission received the following exempt wholesale generator filings:

Docket Numbers: EG25-185-000.

Applicants: Yaupon Solar, LLC.

Description: Yaupon Solar, LLC submits Notice of Self-Certification of Exempt Wholesale Generator Status.

Filed Date: 3/6/25.

Accession Number: 20250306-5048.

Comment Date: 5 p.m. ET 3/27/25.

Docket Numbers: EG25-186-000.

Applicants: Cherrywood Solar I, LLC.

Description: Cherrywood Solar I, LLC submits Notice of Self-Certification of Exempt Wholesale Generator Status.

Filed Date: 3/6/25.

Accession Number: 20250306-5073.

Comment Date: 5 p.m. ET 3/27/25.

Docket Numbers: EG25-187-000.

Applicants: Yaupon Solar Energy Storage, LLC.

Description: Yaupon Solar Energy Storage, LLC submits Notice of Self-Certification of Exempt Wholesale Generator Status.

Filed Date: 3/6/25.

Accession Number: 20250306-5120.

Comment Date: 5 p.m. ET 3/27/25.

Docket Numbers: EG25-188-000.

Applicants: Crane ProjectCo 1, LLC.

Description: Crane ProjectCo 1, LLC submits Notice of Self-Certification of Exempt Wholesale Generator Status.

Filed Date: 3/6/25.

Accession Number: 20250306-5179.

Comment Date: 5 p.m. ET 3/27/25.

Docket Numbers: EG25-189-000.

Applicants: Crane ProjectCo 2, LLC.

Description: Crane ProjectCo 2, LLC submits Notice of Self-Certification of Exempt Wholesale Generator Status.

Filed Date: 3/6/25.

Accession Number: 20250306-5180.

Comment Date: 5 p.m. ET 3/27/25.

Docket Numbers: EG25-190-000.

Applicants: Crane ProjectCo 3, LLC.

Description: Crane ProjectCo 3, LLC submits Notice of Self-Certification of Exempt Wholesale Generator Status.

Filed Date: 3/6/25.

Accession Number: 20250306-5181.

Comment Date: 5 p.m. ET 3/27/25.

Docket Numbers: EG25-191-000.

Applicants: Crane ProjectCo 4, LLC.

Description: Crane ProjectCo 4, LLC submits Notice of Self-Certification of Exempt Wholesale Generator Status.

Filed Date: 3/6/25.

Accession Number: 20250306-5183.

Comment Date: 5 p.m. ET 3/27/25.

Docket Numbers: EG25-192-000.

Applicants: Crane ProjectCo 5, LLC.

Description: Crane ProjectCo 5, LLC submits Notice of Self-Certification of Exempt Wholesale Generator Status.

Filed Date: 3/6/25.

Accession Number: 20250306-5185.

Comment Date: 5 p.m. ET 3/27/25.

Docket Numbers: EG25-193-000.

Applicants: Crane ProjectCo 6, LLC.

Description: Crane ProjectCo 6, LLC submits Notice of Self-Certification of Exempt Wholesale Generator Status.

Filed Date: 3/6/25.

Accession Number: 20250306-5186.

Comment Date: 5 p.m. ET 3/27/25.

Docket Numbers: EG25-194-000.

Applicants: Crane ProjectCo 7, LLC.

Description: Crane ProjectCo 7, LLC submits Notice of Self-Certification of Exempt Wholesale Generator Status.

Filed Date: 3/6/25.

Accession Number: 20250306-5187.

Comment Date: 5 p.m. ET 3/27/25.

Docket Numbers: EG25-195-000.

Applicants: Crane ProjectCo 8, LLC.

Description: Crane ProjectCo 8, LLC submits Notice of Self-Certification of Exempt Wholesale Generator Status.

Filed Date: 3/6/25.

Accession Number: 20250306-5188.

Comment Date: 5 p.m. ET 3/27/25.

Docket Numbers: EG25-196-000.

Applicants: Mendoza Trail BESS, LLC.

Description: Mendoza Trail BESS, LLC submits Notice of Self-Certification of Exempt Wholesale Generator Status.

Filed Date: 3/6/25.

Accession Number: 20250306-5189.

Comment Date: 5 p.m. ET 3/27/25.

Docket Numbers: EG25-197-000.

Applicants: Headcamp ProjectCo 1, LLC.

Description: Headcamp ProjectCo 1, LLC submits Notice of Self-Certification of Exempt Wholesale Generator Status.

Filed Date: 3/6/25.

Accession Number: 20250306-5190.

Comment Date: 5 p.m. ET 3/27/25.

Docket Numbers: EG25-198-000.

Applicants: Headcamp ProjectCo 2, LLC.

Description: Headcamp ProjectCo 2, LLC submits Notice of Self-Certification of Exempt Wholesale Generator Status.

Filed Date: 3/6/25.

Accession Number: 20250306-5193.

Comment Date: 5 p.m. ET 3/27/25.

Docket Numbers: EG25-199-000.

Applicants: Headcamp ProjectCo 3, LLC.

Description: Headcamp ProjectCo 3, LLC submits Notice of Self-Certification of Exempt Wholesale Generator Status.

Filed Date: 3/6/25.

Accession Number: 20250306-5194.

Comment Date: 5 p.m. ET 3/27/25.

Docket Numbers: EG25-200-000.

Applicants: Headcamp ProjectCo 4, LLC.

Description: Headcamp ProjectCo 4, LLC submits Notice of Self-Certification of Exempt Wholesale Generator Status.

Filed Date: 3/6/25.

Accession Number: 20250306-5196.

Comment Date: 5 p.m. ET 3/27/25.

Docket Numbers: EG25-201-000.

Applicants: Headcamp ProjectCo 5, LLC.

Description: Headcamp ProjectCo 5, LLC submits Notice of Self-Certification of Exempt Wholesale Generator Status.

Filed Date: 3/6/25.

Accession Number: 20250306-5198.

Comment Date: 5 p.m. ET 3/27/25.

Docket Numbers: EG25-202-000.

Applicants: Headcamp ProjectCo 6, LLC.

Description: Headcamp ProjectCo 6, LLC submits Notice of Self-Certification of Exempt Wholesale Generator Status.

Filed Date: 3/6/25.

Accession Number: 20250306-5199.

Comment Date: 5 p.m. ET 3/27/25.

Docket Numbers: EG25-203-000.

Applicants: Momentum Headcamp LLC.

Description: Momentum Headcamp LLC submits Notice of Self-Certification of Exempt Wholesale Generator Status.

Filed Date: 3/6/25.

Accession Number: 20250306-5200.

Comment Date: 5 p.m. ET 3/27/25.

Docket Numbers: EG25-204-000.

Applicants: Pintail Pass BESS LLC.

Description: Pintail Pass BESS LLC submits Notice of Self-Certification of Exempt Wholesale Generator Status.

Filed Date: 3/6/25.

Accession Number: 20250306-5201.

Comment Date: 5 p.m. ET 3/27/25.

Docket Numbers: EG25-205-000.

Applicants: Pintail Pass ProjectCo1, LLC.

Description: Pintail Pass ProjectCo1, LLC submits Notice of Self-Certification of Exempt Wholesale Generator Status.

Filed Date: 3/6/25.

Accession Number: 20250306-5202.

Comment Date: 5 p.m. ET 3/27/25.

Docket Numbers: EG25-206-000.

Applicants: Pintail Pass ProjectCo 2, LLC.

Description: Pintail Pass ProjectCo 2, LLC submits Notice of Self-Certification of Exempt Wholesale Generator Status.

Filed Date: 3/6/25.

Accession Number: 20250306-5206.

Comment Date: 5 p.m. ET 3/27/25.

Docket Numbers: EG25-207-000.

Applicants: Pintail Pass ProjectCo 3, LLC.

Description: Pintail Pass ProjectCo 3, LLC submits Notice of Self-Certification of Exempt Wholesale Generator Status.

Filed Date: 3/6/25.

Accession Number: 20250306-5208.

Comment Date: 5 p.m. ET 3/27/25.

Docket Numbers: EG25-208-000.

Applicants: Pintail Pass ProjectCo 4, LLC.

Description: Pintail Pass ProjectCo 4, LLC submits Notice of Self-Certification of Exempt Wholesale Generator Status.

Filed Date: 3/6/25.

Accession Number: 20250306-5210.

Comment Date: 5 p.m. ET 3/27/25.

Docket Numbers: EG25-209-000.

Applicants: Pintail Pass ProjectCo 5, LLC.

Description: Pintail Pass ProjectCo 5, LLC submits Notice of Self-Certification of Exempt Wholesale Generator Status.

Filed Date: 3/6/25.

Accession Number: 20250306-5211.

Comment Date: 5 p.m. ET 3/27/25.

Docket Numbers: EG25-210-000.

Applicants: Pintail Pass ProjectCo 6, LLC.

Description: Pintail Pass ProjectCo 6, LLC submits Notice of Self-Certification of Exempt Wholesale Generator Status.

Filed Date: 3/6/25.

Accession Number: 20250306-5215.

Comment Date: 5 p.m. ET 3/27/25.

Docket Numbers: EG25-211-000.

Applicants: Pintail Pass ProjectCo 7, LLC.

Description: Pintail Pass ProjectCo 7, LLC submits Notice of Self-Certification of Exempt Wholesale Generator Status.

Filed Date: 3/6/25.

Accession Number: 20250306-5217.

Comment Date: 5 p.m. ET 3/27/25.

Docket Numbers: EG25-212-000.

Applicants: Pintail Pass ProjectCo 8, LLC.

Description: Pintail Pass ProjectCo 8, LLC submits Notice of Self-Certification of Exempt Wholesale Generator Status.

Filed Date: 3/6/25.

Accession Number: 20250306-5222.

Comment Date: 5 p.m. ET 3/27/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 6, 2025.
Carlos D. Clay,
Deputy Secretary.

[FR Doc. 2025-03909 Filed 3-11-25; 8:45 am]

BILLING CODE 6717-01-P